ENVIRONMENTAL PROTECTION AGENCY

40 CFR Part 52

[EPA-R09-OAR-2019-0381; FRL-10007-01-Region9]

Air Plan Approval; California; Placer County Air Pollution Control District; Stationary Source Permits

AGENCY: Environmental Protection Agency (EPA).

ACTION: Final rule.

SUMMARY: The Environmental Protection Agency (EPA) is finalizing a limited approval and limited disapproval of a revision to the Placer County Air Pollution Control District (PCAPCD or “District”) portion of the California State Implementation Plan (SIP). This revision concerns the District's New Source Review (NSR) permitting program for new and modified sources of air pollution under section 110(a)(2)(C) of the Clean Air Act (CAA or “Act”). This action updates the PCAPCD's applicable SIP with current administrative requirements for the issuance of permits.

DATES: This rule will be effective on May 20, 2020.

ADDRESSES: The EPA has established a docket for this action under Docket ID No. EPA-R09-OAR-2019-0381. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Laura Yannayon, EPA Region IX, Air-3-1, 75 Hawthorne St., San Francisco, CA 94105, (415) 972-3534, yannayon.laura@epa.gov.

SUPPLEMENTARY INFORMATION: Throughout this document, “we,” “us,” and “our” refer to the EPA.

Table of Contents

I. Proposed Action

II. Public Comment and EPA Response

III. EPA Action

IV. Incorporation by Reference

V. Statutory and Executive Order Reviews

I. Proposed Action

On October 24, 2019 (84 FR 56959), the EPA proposed a limited approval and limited disapproval of the following rule that was submitted for incorporation into the PCAPCD portion of the California SIP.

Table 1—Submitted Rule
Rule No. | Rule title | Adopted or amended | Submitted
501 | General Permit Requirements | 8/12/10 | 12/7/10

We proposed limited approval of this rule because, with a few noted exceptions, we determined that the rule meets the statutory requirements for SIP revisions as specified in section 110(l) of the CAA, as well as the substantive statutory and regulatory requirements found in CAA sections 110(a)(2)(C) and 40 CFR 51.160-51.164. We proposed limited disapproval of the rule because we identified the following four deficiencies:

1. Rule 501, Section 303.1 does not specifically require the Air Pollution Control Officer (APCO) to determine and deny a permit if a proposed project will (1) cause a violation of the SIP or (2) interfere with attainment or maintenance of a National Ambient Air Quality Standard. It also only requires the APCO to evaluate whether an emission unit will be operated in compliance with all applicable requirements as of the application completeness date, rather than as of the date of permit issuance.

2. The District's minor NSR program does not contain any public notice requirements for new or modified emission units located in the Lake Tahoe Air Basin portion of Placer County.

3. Rule 501 does not contain any provisions that address stack height procedures as required by 40 CFR 51.164.

4. Rule 501, Section 200—Definitions, references and relies on the definitions contained in Rule 504, “Emission Reduction Credits,” which is not SIP-approved.

II. Public Comment and EPA Response

The EPA's proposed action provided a 30-day public comment period. During this period, we received the following anonymous comment regarding our proposed action on Rule 501:

The EPA should immediately start sanctions on the district based on this limited approval and limited disapproval. The EPA has already identified several deficiencies in their technical support document that reveal how far away the District is from a plan that meets the law. The EPA should impose sanctions because that is what the law requires and it will help push the District to submit a plan that meets the law and not allow polluters to desecrate our land and air.

The EPA disagrees with the commenter that we are required to apply sanctions to the District because of deficiencies identified in the limited disapproval portion of the proposed action. Section 179(a) of the CAA indicates that sanctions apply to a state's failure to submit, or the EPA's final disapproval of, a SIP submission that is required either under Part D of the act or in response to a SIP call issued under CAA section 110(k)(5). Pertinent here, section 179(a)(2) further states that sanctions apply when the EPA disapproves a state's submission based on its failure to meet one or more required elements applicable to a nonattainment area. 42 U.S.C. 7509(a)(2). Sanctions do not apply to the EPA's limited disapproval of Rule 501 because the rule addresses provisions that are not required elements applicable to nonattainment areas under Part D of title I of the CAA. Rather, Rule 501 addresses the requirements of regulations contained in 40 CFR 51.160-51.164, which implement the applicable statutory requirements for a general NSR permit program contained in CAA section 110(a)(2)(C) in Part A of title I of the Act. Thus, because the EPA's limited disapproval applies only to the state's minor NSR program, sanctions are not triggered. The EPA disagrees with the commenter that sanctions are required to apply to the limited disapproval of Rule 501 for the deficiencies identified in the state's minor NSR program. We further note that even if the sanctions provisions in section 179(a) of the CAA were triggered, sanctions would not apply immediately; rather, the first sanctions would apply 18 months following the EPA's final limited disapproval if the state did not resolve the identified deficiencies, or the EPA did not approve the new SIP submittal. See 40 CFR 52.31(d).

In our proposed action, we found that, with the exception of the four identified deficiencies, the rule generally satisfies all applicable statutory and regulatory requirements for a general NSR permit program required by CAA section 110(a)(2)(C) as implemented in 40 CFR 51.160-51.164. Notwithstanding the four identified deficiencies, all of which are found in the current SIP for at least one of the District's three air basins, our limited approval and limited disapproval of Rule 501 will strengthen the SIP by updating outdated provisions, clarifying requirements, and harmonizing the applicable minor source permit program for all three air basins.

III. EPA Action

We received one adverse comment regarding our proposed limited approval and limited disapproval of Rule 501. As described above in Section II, we disagree with this comment. Accordingly, for the reasons set forth in our proposed action and above in Section II, and as authorized in section 110(k)(3) and 301(a) of the Act, we our finalizing our proposed limited approval of Rule 501 into the PCAPCD portion of the California SIP, including those provisions identified as deficient.

As authorized under section 110(k)(3) and 301(a), the EPA is simultaneously finalizing a limited disapproval of Rule 501. As a result, the EPA must promulgate a federal implementation plan under section 110(c) of the CAA unless we approve subsequent SIP revisions that correct the rule deficiencies within 24 months. Sanctions will not be imposed under CAA section 179(b) because a minor source NSR program is not a required element of a nonattainment plan under Part D of title I of the Act.

IV. Incorporation by Reference

In this rule, the EPA is finalizing regulatory text that includes incorporation by reference. In accordance with requirements of 1 CFR 51.5, the EPA is finalizing the incorporation by reference of the PCAPCD rule listed in Table 1 of this document. The EPA has made, and will continue to make, this document available electronically through https://www.regulations.gov and in hard copy at the EPA Region IX Office (please contact the person identified in the FOR FURTHER INFORMATION CONTACT section of this preamble for more information).

V. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals, including limited approvals, are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address disproportionate human health or environmental effects with practical, appropriate, and legally permissible methods under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 19, 2020. Filing a petition for reconsideration by the Administrator of this final rule does not affect the finality of this rule for the purposes of judicial review nor does it extend the time within which a petition for judicial review may be filed, and shall not postpone the effectiveness of such rule or action. This action may not be challenged later in proceedings to enforce its requirements (see section 307(b)(2)).

List of Subjects in 40 CFR Part 52

Administrative practice and procedure, Environmental protection, Air pollution control, Carbon monoxide, Incorporation by reference, Intergovernmental relations, Lead, Nitrogen dioxide, Ozone, Particulate matter, Reporting and recordkeeping requirements, Sulfur dioxide, Volatile organic compounds.

Authority: 42 U.S.C. 7401 et seq.

Dated: April 3, 2020.
John Busterud,
Regional Administrator, Region IX.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by:

a. Adding paragraphs (b)(2)(v) and (vi), (c)(6)(xxvii), (c)(26)(xvii)(H), (c)(41)(x)(K), (c)(52)(xiii)(H), (c)(80)(i)(H), (I), and (J), and (c)(168)(i)(C)(4);

b. Adding a heading for paragraph (c)(389)(i)(B); and

c. Adding paragraph (c)(389)(i)(B)(1).

The additions read as follows:

§ 52.220 Identification of plan—in part.

* * * * *

(b) * * *

(2) * * *

(v) Previously approved on May 31, 1972 in paragraph (b) of this section and now deleted with replacement in paragraph (c)(389)(i)(B)(1) of this section: Article 2, Sections 11 and 16.

(vi) Previously approved on May 31, 1972 in paragraph (b) of this section and now deleted with replacement in paragraph (c)(389)(i)(B)(1) of this section for implementation in the Mountain Counties and Sacramento Valley Air Basins: Article 2, Section 15.

* * * * *

(c) * * *

(6) * * *

(xxvii) Placer County Air Pollution Control District.

(A) Previously approved on September 22, 1972 in paragraph (c)(6) of this section and now deleted with replacement in paragraph (c)(389)(i)(B)(1) of this section: Article 2, Section 10 (paragraph (a)).

(B) Previously approved on September 22, 1972 in paragraph (c)(6) of this section and now deleted with replacement in paragraph (c)(389)(i)(B)(1) of this section for implementation in the Lake Tahoe Air Basin: Article 2, Section 10 (paragraph (b)).

* * * * *

(26) * * *

(xvii) * * *

(H) Previously approved on June 14, 1978 in paragraph (c)(26)(xvii)(A) of this section and now deleted with replacement in paragraph (c)(389)(i)(B)(1) of this section: Rule 403.

* * * * *

(41) * * *

(x) * * *

(K) Previously approved on November 15, 1978 in paragraph (c)(41)(x)(A) of this section and now deleted with replacement in paragraph (c)(389)(i)(B)(1) of this section for implementation in the Mountain Counties and Sacramento Valley Air Basins: Rule 507.

* * * * *

(52) * * *

(xiii) * * *

(H) Previously approved on June 18, 1982 in paragraph (c)(52)(xiii)(D) of this section and now deleted with replacement in paragraph (c)(389)(i)(B)(1) of this section for implementation in the Mountain Counties and Sacramento Valley Air Basins: Rules 501(B) and 502.

* * * * *

(80) * * *

(i) * * *

(H) Previously approved on April 23, 1982 in paragraph (c)(80)(i)(B) of this section and now deleted with replacement in paragraph (c)(389)(i)(B)(1) of this section: Rule 507.

(I) Previously approved on June 18, 1982 in paragraphs (c)(80)(i)(C) of this section and now deleted with replacement in paragraph (c)(389)(i)(B)(1) of this section: Rules 502, 503 and 505.

(J) Previously approved on June 23, 1982 in paragraph (c)(80)(i)(E) of this section and now deleted with replacement in paragraph (c)(389)(i)(B)(1) of this section: Rule 514.

* * * * *

(168) * * *

(i) * * *

(C) * * *

(4) Previously approved on February 3, 1987 in paragraph (c)(168)(i)(C)(1) of this section and now deleted with replacement in paragraph (c)(389)(i)(B)(1) of this section for implementation in the Mountain Counties and Sacramento Valley Air Basins: Rules 505 and 507.

* * * * *

(389) * * *

(i) * * *

(B) Placer County Air Pollution Control District.

(1) Rule 501, “General Permit Requirements,” adopted on August 12, 2010.

* * * * *

[FR Doc. 2020-07521 Filed 4-17-20; 8:45 am]

BILLING CODE 6560-50-P